FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201328.

Agreement Name: The TradeLens Agreement.

Parties: CMA CGM S.A.; Hapag-Lloyd AG; Maersk A/S; MSC Mediterranean Shipping Company S.A.; and Ocean Network Express Pte. Ltd.

Filing Party: Wayne Rohde; Cozen O'Connor.

Synopsis: The Agreement authorizes the parties to cooperate with respect to the provision of data to a blockchain-enabled, global trade digitized solution that will enable shippers, authorities and other stakeholders to exchange information on supply chain events and documents.

Proposed Effective Date: 2/6/2020.

Location: https://www2.fmc.gov/FMC.Agreements.Web/Public/AgreementHistory/26452.

Dated: December 23, 2019.
Rachel Dickon,
Secretary.

[FR Doc. 2019-28180 Filed 12-30-19; 8:45 am]

BILLING CODE 6731-AA-P